DEPARTMENT OF DEFENSE

[DOD-2006-OS-0112]

Office of the Inspector General; Privacy Act of 1974; System of Records

AGENCY: Office of the Inspector General, DoD.

ACTION: Notice to amend systems of records.

SUMMARY: The Office of the Inspector General (OIG) is amending a system of records notice in its existing inventory of record systems subject to the Privacy Act of 1973, (5 U.S.C. 552a), as amended.

DATES: This proposed action will be effective without further notice on July 5, 2006 unless comments are received which result in a contrary determination.

ADDRESSES: Send comments to Chief, FOIA/PA Office, Inspector General, Department of Defense, 400 Army Navy Drive, Room 201, Arlington, VA 22202-4704.

FOR FURTHER INFORMATION CONTACT: Mr. Darryl R. Aaron at (703) 604-9785.

SUPPLEMENTARY INFORMATION: The Office of the Inspector General (OIG) systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: May 26, 2006.
C.R. Choate,
Alternate OSD Federal Register Liaison Officer, Department of Defense.

CIG-18

System name:

Grievance Records (June 16, 2003, 68 FR 35636).

Changes:

* * * * *

System location:

Delete entry and replace with: “Records are maintained by Department of Defense Office of the Inspector General, Human Capital Management Directorate, Workforce Relations Division, 400 Army Navy Drive, Suite 115, Arlington, VA 22202-4704.”

* * * * *

Purpose(s):

Delete entry and replace with: “The information will be issued by the Department of Defense Office of the Inspector General to control and process grievances; to investigate the allegations; conduct interviews; and render the final decision.”

* * * * *

Safeguards:

Delete entry and replace with: “Records are maintained in locked metal file cabinets, to which only DoD OIG authorized personnel have access.”

* * * * *

System manager(s) and address:

Delete entry and replace with: “Human Capital Management Directorate, Department of Defense Office of the Inspector General, 400 Army Navy Drive, Arlington, VA 22202-4707.”

Notification procedure:

Delete entry and replace with: “Individuals seeking to determine whether this system of records contains information about themselves should address written inquiries to the Freedom of Information Act Requester Service Center/Privacy Act Office, 400 Army Navy Drive, Arlington, VA 22202-4707.

Written requests for information should include the full name.”

Record access procedures:

Delete entry and replace with: “Individuals seeking access to records about themselves contained in this system of records should address written inquiries to the Freedom of Information Act Requester Service Center/Privacy Act Office, 400 Army Navy Drive, Arlington, VA 22202-4704.

Written requests for information should include the full name.”

* * * * *

CIG-18

System name:

Grievance Records.

System location:

Records are maintained by Department of Defense Office of the Inspector General, Human Capital Management Directorate, Workforce Relations Division, 400 Army Navy Drive, Suite 115, Arlington, VA 22202-4704.

Categories of individuals covered by the system:

Current or former Inspector General, Department of Defense employees who have submitted grievances in accordance with 5 CFR Part 771, DoD Directive 1400.25-M Subchapter 771 and DoD Inspector General Instruction 1400.5.

Categories of records in the system:

The case files contains all documents related to grievances including reports of interviews and hearings, examiner's findings and recommendations, copy of the original and final decision, and related correspondence and exhibits.

Authority for maintenance of the system:

5 U.S.C. 2302, Prohibited personnel practices; 5 U.S.C. 7121, Grievance procedures; 5 CFR part 771; DoD 1400.25-M, Subchapter 771, Administrative Grievance System; DoD Inspector General Instruction 1400.5; and E.O. 9397 (SSN).

Purpose(s):

The information will be used by the Department of Defense Office of the Inspector General to control and process grievances; to investigate the allegations; conduct interviews; and render the final decision.

Routine uses of records maintained in the system, including categories of users and the purposes of such uses:

In addition to those disclosures generally permitted under 5 U.S.C. 552a(b) of the Privacy Act, these records or information contained therein may specifically be disclosed outside the DoD as a routine use pursuant to 5 U.S.C. 552(a)(b)(3) as follows:

To disclose information to any source from which additional information is requested in the course of processing a grievance, to the extent necessary to identify the individual, inform the source of the purpose(s) of the request, and identify the type of information requested.

To disclose in response to a request for discovery or for appearance of a witness, information that is relevant to the subject matter involved in a pending or judicial or administrative proceeding.

To provide information to officials of labor organization reorganized under the Civil Service Reform Act when relevant and necessary to their duties, exclusive representation concerning personnel policies, practices, and mater affecting work conditions.

Policies and practices for storing, retrieving, accessing, retaining and disposing of records in the system:

Storage:

Records are stored in paper form.

Retrievability:

Records are retrieved by names of the individuals on whom the records are maintained.

Safeguards:

Records are maintained in locked metal file cabinets, to which only DoD OIG authorized personnel have access.

Retention and disposal:

Records are destroyed four years after the case is closed.

System manager(s) and address:

Human Capital Management Directorate, Department of Defense Office of the Inspector General, 400 Army Navy Drive, Arlington, VA 22202-4704.

Notification procedure:

Individuals seeking to determine whether this system of records contains information about themselves should address written inquiries to the Freedom of Information Act Requester Service Center/Privacy Act Office, 400 Army Navy Drive, Arlington, VA 22202-4704.

Written requests for information should include the full name.

Record access procedures:

Delete entry and replace with: “Individuals seeking access to records about themselves contained in this system of records should address written inquires to the Freedom of Information Act Requester Service Center/Privacy Act Office, 400 Army Navy Drive, Arlington, VA 22202-4704.”

Written requests for information should include the full name.

Contesting record procedures:

The OIG's rules for addressing records, and for contesting contents and appealing initial agency determinations are published in 32 CFR part 312 and may be obtained from the system manager.

Record source categories:

Information is provided by the individual on whom the record is maintained; by testimony of witnesses; by Agency officials; or from related correspondence from organizations or persons.

Exemptions claimed for the system:

None.

[FR Doc. 06-5087 Filed 6-2-06; 8:45 am]

BILLING CODE 5001-06-M